DEPARTMENT OF COMMERCE

Foreign-Trade Zones Board

[Order No. 1421]

Grant of Authority for Subzone Status; Samsung Austin Semiconductor, LLC (Semiconductor Memory Devices); Austin, TX

Pursuant to its authority under the Foreign-Trade Zones Act of June 18, 1934, as amended (19 U.S.C. 81a-81u), the Foreign-Trade Zones Board (the Board) adopts the following Order:

Whereas, the Foreign-Trade Zones Act provides for “ * * * the establishment * * * of foreign-trade zones in ports of entry of the United States, to expedite and encourage foreign commerce, and for other purposes,” and authorizes the Foreign-Trade Zones Board to grant to qualified corporations the privilege of establishing foreign-trade zones in or adjacent to U.S. Customs ports of entry;

Whereas, the Board's regulations (15 CFR part 400) provide for the establishment of special-purpose subzones when existing zone facilities cannot serve the specific use involved, and when the activity results in a significant public benefit and is in the public interest;

Whereas, the Foreign-Trade Zone of Central Texas, Inc., grantee of Foreign-Trade Zone 183, has made application to the Board for authority to establish special-purpose subzone status with export-only manufacturing authority (semiconductor memory devices) for the facilities of Samsung Austin Semiconductor, LLC, located in Austin, Texas (FTZ Docket 18-2005, filed 4/28/2005);

Whereas, notice inviting public comment has been given in the Federal Register (70 FR 23843-23844, 5/5/2005); and,

Whereas, the Board adopts the findings and recommendations of the examiner's report, and finds that the requirements of the FTZ Act and the Board's regulations are satisfied, and that approval of the application would be in the public interest;

Now, therefore, the Board hereby grants authority for subzone status with export-only manufacturing authority for activity related to semiconductor memory device manufacturing at the facilities of Samsung Austin Semiconductor, LLC, located in Austin, Texas, (Subzone 183B), as described in the application and Federal Register notice, and subject to the FTZ Act and the Board's regulations, including § 400.28.

Signed at Washington, DC, this 17th day of November, 2005.
Joseph A. Spetrini,
Acting Assistant Secretary of Commerce for Import Administration, Alternate Chairman, Foreign-Trade Zones Board.

[FR Doc. E5-6785 Filed 12-1-05; 8:45 am]

BILLING CODE 3510-DS-P